DEPARTMENT OF AGRICULTURE

Forest Service

Umatilla National Forest, Oregon, Ellis Integrated Vegetation Management Project

AGENCY: Forest Service, USDA.

ACTION: Notice of intent to prepare an environmental impact statement.

SUMMARY: The Heppner and North Fork John Day Ranger Districts propose the Ellis Integrated Vegetation Project (Ellis Project) to reduce overstocking, improve ecosystem health, and enhance resilient landscapes by creating and maintaining heterogeneous vegetative conditions at multiple scales. As a result, this action will reduce the risk of uncharacteristic disturbances; enhance vegetative communities; provide well-distributed, high quality wildlife habitat for associated species; aid in protecting values at risk; promote the health and safety of the public and firefighters; and contribute to social, cultural, and economic needs. The project area is approximately 15 miles southeast of Heppner and 7 miles west of Ukiah, Oregon, in Morrow, Umatilla, and Grant Counties. Based on internal and external issues raised early in proposal development; and the scope, scale, and potentially significant beneficial impacts to distribution of wildlife, forest health, and fuels reduction, the Umatilla National Forest plans to prepare an environmental impact statement (EIS).

DATES: Comments concerning the scope of the analysis must be received by January 15, 2019. The draft EIS is expected November 2019 and the final EIS is expected July 2020.

ADDRESSES: Send written comments to Heppner District Ranger, Brandon Houck; c/o Leslie Taylor, PO Box 7, Heppner, Oregon, 97836, or they can be hand delivered to the Heppner Ranger District (117 So. Main St., Heppner, OR 97836). Comments may also be submitted electronically via https://www.fs.usda.gov/project/?project=41350 selecting the “Comment on Project” link in the “Get Connected” group at the right hand side of the project web page, or via facsimile to 541-278-3730.

FOR FURTHER INFORMATION CONTACT: Elizabeth Berkley, 541-278-3814, elizabethberkley@fs.fed.us.

Individuals who use telecommunication devices for the deaf (TDD) may call the Federal Information Relay Service (FIRS) at 1-800-877-8339 between 8 a.m. and 8 p.m., Eastern Time, Monday through Friday.

SUPPLEMENTARY INFORMATION: The Ellis Project is located within the Upper Butter Creek, Upper Willow Creek, Rhea Creek, Lower Camas Creek, and the Potamus Creek-North Fork John Day River 5th field watersheds. Private land accounts for approximately 4,626 acres within the project boundary, leaving about up to 110,000 acres that may be considered for treatment on National Forest System lands.

Purpose and Need for Action

The Ellis Project is an interdisciplinary project developed to meet a wide variety of program needs. The key purposes are to reduce the risk of undesirable wildfire, improve ingress and egress for firefighters, increase forest health and vigor for timber and non-timber values, and improve wildlife habitat. This project is needed to protect values at risk, create healthy, fire-resistant landscapes and improve wildlife habitat and forage variability. Additional program purposes include improving the quality of rangelands, enhancing unique vegetation communities, improving ethnographically important foods, and improving and maintaining recreational opportunities.

Proposed Action

The Ellis Project is expected to include the following types of treatments: commercial thinning; small diameter thinning; mechanical fuels treatments; pile, jackpot, and broadcast burning; landscape burning; pruning and planting. Target basal area for thinning will be dependent on species composition, stand age, size classes and desired future conditions. Varying desired stand density will create or maintain a clumpy, patchy, uneven mosaic of trees across the landscape. Regeneration harvest will occur in cold and cool moist forest areas affected by insect and disease. Areas of additional treatment will be focused on the ember reduction zone, areas of scenic recreational value, and areas of conifer encroachment on aspen stands, wet meadows and shrub-steppe. Additional wildlife habitat improvements will include forage plantings and road closures to increase security. Rangeland improvements may include water developments and fencing. Project outputs include a variety of forest products including fuelwood, posts and poles, saw logs, and other wood fiber products.

Responsible Officials

Brandon Houck (Heppner) and Paula Guenther (North Fork John Day) District Rangers.

Nature of Decision To Be Made

Given the purpose and need, the responsible officials will review the proposed action and comments on the scope of the project to develop any alternatives to address issues identified by the public. Alternatives and the environmental consequences will be drafted and analyzed in the draft decision. The responsible officials will compare the proposed action and alternatives and consider environmental consequences of the Ellis Project in order to decide how well the selected alternative meets the purpose and need described in the EIS; how well the selected alternative moves the project area toward the desired conditions; and if the selected alternative mitigates potential adverse effects.

Preliminary Issues

Issues identified so far include potential impact of treatments in cold and cool moist forest and wildlife movement/displacement. Vegetation treatments in cold and cool moist forest remains a contentious topic among stakeholders as these areas are considered more sensitive to disturbance, but the need still exists to reduce stand density for forest vigor and to reestablish historical fire regimes. Wildlife movement and distribution, particularly for elk, is also a growing concern. Early stakeholder engagement has identified a need to improve security and forage on National Forest System lands to better retain elk, which are pushed off-forest onto private lands, creating conflict in agricultural areas. High road use and road density exacerbate this issue.

Scoping Process

The Heppner and North Fork John Day Ranger Districts have scheduled three public workshops to help facilitate conversations about the project area and solicit input on the proposal. These workshops are scheduled for November 8, November 15, and December 13, 2018, from 1800 to 2000 hours (6:00 p.m. to 8:00 p.m.). Two will be held at the Heppner Ranger District (117 So. Main St., Heppner, OR 97836) and the other at the North Fork John Day Ranger District office (401 W. Main, Ukiah, OR 97880). Exact locations will be announced closer to scheduled dates in consideration of weather and road conditions.

Comments should be as specific as possible and focus on desired conditions or means to address concerns about the proposed action. It is important that reviewers provide their comments at such times and in such manner that they are useful to the agency's preparation of the environmental impact statement. Therefore, comments should be provided prior to the close of the comment period and should clearly articulate the commenter's suggestions for alternatives.

Comments received in response to this solicitation, including names and addresses of those who comment, will be part of the public record for this proposed action. Comments submitted anonymously will be accepted and considered; however, anonymous comments will not allow the Agency to provide the respondent with updates or subsequent environmental documents.

Dated: November 1, 2018.
Gregory C. Smith,
Acting Associate Deputy Chief, National Forest System.

[FR Doc. 2018-25059 Filed 11-15-18; 8:45 am]

BILLING CODE 3411-15-P